DEPARTMENT OF TRANSPORTATION

Federal Aviation Administration

14 CFR Part 23

[Docket No. CE229, Special Condition 23-168-SC]

Special Conditions; Duncan Aviation Inc., EFIS on the Raytheon 300 King Air; Protection of Systems for High Intensity Radiated Fields (HIRF)

AGENCY: Federal Aviation Administration (FAA), DOT.

ACTION: Final special conditions; request for comments; correction.

SUMMARY: The FAA published a document on June 22, 2005 concerning final special conditions for Duncan Aviation Inc., on the Raytheon Model 300 King Air. There was an error in the preamble of the special conditions in the reference to the docket number. The correct document number appears in the addresses section in one place; however, the docket number is incorrect in the heading, in one other location in the address, and in the “Comments Invited” section. This document contains a correction to the docket number.

DATES: The effective date of these special conditions is June 15, 2005. Comments must be received on or before July 22, 2005.

ADDRESSES: Comments may be mailed in duplicate to: Federal Aviation Administration, Regional Counsel, ACE-7, Attention: Rules Docket Clerk, Docket No. CE229, Room 506, 901 Locust, Kansas City, Missouri 64106. All comments must be marked: Docket No. CE229. Comments may be inspected in the Rules Docket weekdays, except Federal holidays, between 7:30 a.m. and 4 p.m.

FOR FURTHER INFORMATION CONTACT: Wes Ryan, Aerospace Engineer, Standards Office (ACE-110), Small Airplane Directorate, Aircraft Certification Service, Federal Aviation Administration, 901 Locust, Room 301, Kansas City, Missouri 64106; telephone (816) 329-4127.

SUPPLEMENTARY INFORMATION:

Need for Correction

The FAA published a document on June 22, 2005 (70 FR 35985) that issued final special conditions with a request for comments. In the document under the heading, in the “Addresses” section, and in the “Comments Invited” section, the docket number “229” appears. The correct docket number is “CE229.” This document corrects that error.

Correction of Publication

Accordingly, the preamble of the special conditions is revised to remove the docket number “229” and to replace it with “CE229” wherever it appears.

Comments Invited

Interested persons are invited to submit such written data, views, or arguments, as they may desire. Communications should identify the regulatory docket or notice number and be submitted in duplicate to the address specified above. All communications received on or before the closing date for comments will be considered by the Administrator. The special conditions may be changed in light of the comments received. All comments received will be available in the Rules Docket for examination by interested persons, both before and after the closing date for comments. A report summarizing each substantive public contact with FAA personnel concerning this rulemaking will be filed in the docket. Commenters wishing the FAA to acknowledge receipt of their comments submitted in response to this notice must include a self-addressed, stamped postcard on which the following statement is made: “Comments to Docket No. CE229.” The postcard will be date stamped and returned to the commenter.

Issued in Kansas City, Missouri on July 14, 2005.
John Colomy,
Acting Manager, Small Airplane Directorate, Aircraft Certification Service.

[FR Doc. 05-14763 Filed 7-26-05; 8:45 am]

BILLING CODE 4910-13-P